DEPARTMENT OF TRANSPORTATION

Pipeline and Hazardous Materials Safety Administration

[Docket No. PHMSA-2012-0015; Notice No. 12-1]

Safety Advisory Notice: Return of Radioactively Contaminated Tissue Holders Purchased From Bed Bath and Beyond

AGENCY: Pipeline and Hazardous Materials Safety Administration (PHMSA), DOT.

ACTION: Safety Advisory Notice.

SUMMARY: PHMSA has been notified that Bed Bath and Beyond sold a number of tissue holders in the United States, identified as the Dual Ridge Metal tissue holder, model number DR9M, that emit low levels of radiation. PHMSA and the Nuclear Regulatory Commission believe that there is no immediate danger to the public; however, PHMSA is advising persons in possession of the contaminated tissue holders that they should arrange with Bed Bath and Beyond for their safe return. Any person in possession of this item should call Bed Bath and Beyond at 1-(800) 462-3966 to obtain information about the proper return procedures.

FOR FURTHER INFORMATION CONTACT: Mr. Rick Boyle, Acting Chief, Sciences Branch, Office of Hazardous Materials Safety, (202) 366-2993, 1200 New Jersey Avenue SE., Washington, DC 20590.

SUPPLEMENTARY INFORMATION: On January 11, 2012, PHMSA was advised that Bed Bath and Beyond sold Dual Ridge Metal tissue holders model number DR9M, that were contaminated with the radioisotope Cobalt-60 during their manufacture in India. At this time, it has been verified that at least 220 tissue holders, sold in some of the more than 200 affected Bed Bath and Beyond stores in the United States, are radioactively contaminated. The highest identified radioactivity level on the surface of the tissue holders was approximately 20 mrem/hr, however most of the tissue holders showed much lower levels. A person who spends eight hours in close contact with one of these tissue holders (such as having the tissue on a bedside table next to the bed) could possibly get a maximum yearly dose of about 500-700 mrem. While no unnecessary radiation exposure is desirable, the dose from the tissue holders is not expected to cause any appreciable health effects. To put this into perspective, a person living in the United States receives a radioactive exposure of about 360 mrem/year from naturally-occurring background radiation.

Bed Bath and Beyond has posted notices on its web site: http://www.bedbathandbeyond.com/tissueholdernotice.asp, its facebook pages, and in its stores, and has been actively working with state Radiation Control Programs, the Nuclear Regulatory Commission, the Environmental Protection Agency, the Consumer Product Safety Commission, and Pipeline and Hazardous Materials Safety Administration to identify and remove all of the contaminated tissue holders. Information on radiation exposure can be found on the Nuclear Regulatory Commission's Web site at: http://www.nrc.gov/about-nrc/radiation/around-us/doses-daily-lives.html.

Recommended Action

A person in possession of this item should call Bed Bath and Beyond at 1-(800) 462-3966 to obtain information about the proper return procedures. If a person possessing the identified tissue holders experiences difficulties when attempting to obtain return directions or assistance from Bed Bath and Beyond, they should contact PHMSA at the contact number provided in this notice.

Issued in Washington, DC, on January 23, 2012.
R. Ryan Posten,
Deputy Associate Administrator for Hazardous Materials Safety, Pipeline and Hazardous Materials Safety Administration.

[FR Doc. 2012-1714 Filed 1-26-12; 8:45 am]

BILLING CODE 4910-60-P